DEPARTMENT OF HOMELAND SECURITY

Federal Emergency Management Agency

[Docket ID FEMA-2017-0002; Internal Agency Docket No. FEMA-B-1756]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: October 13, 2017.
Roy E. Wright,
Deputy Associate Administrator for Insurance and Mitigation, Department of Homeland Security, Federal Emergency Management Agency.

State and county | Location and case No. | Chief executive officer of community | Community map repository | Online location of letter of map revision | Date of modification | Community No.
Alaska: Anchorage | Municipality of Anchorage (17-10-0709P). | The Honorable Ethan Berkowitz, Mayor, Municipality of Anchorage, 632 West 6th Avenue, Suite 840, Anchorage, AK 99501. | City Hall, 632 West 6th Avenue, Anchorage, AK 99501. | http://www.msc.fema.gov/lomc | Jan. 12, 2018 | 020005
California:
Riverside | City of Corona (17-09-0805P). | The Honorable Dick Haley, Mayor, City of Corona, 400 South Vicentia Avenue, Corona, CA 92882. | City Hall, 400 South Vicentia Avenue, Corona, CA 92882. | http://www.msc.fema.gov/lomc | Jan. 19, 2018 | 060250
Riverside | Unincorporated Areas of Riverside County (17-09-0805P). | The Honorable John F. Tavaglione, Chairman, Board of Supervisors, Riverside County, 4080 Lemon Street, 5th Floor, Riverside, CA 92501. | Riverside County Flood and Water Conservation District, 1995 Market Street, Riverside, CA 92502. | http://www.msc.fema.gov/lomc | Jan. 19, 2018 | 060245
Sacramento | Unincorporated Areas of Sacramento County (16-09-2857P). | The Honorable Don Nottoli, Chairman, Board of Supervisors, Sacramento County, 700 H Street, Suite 2450, Sacramento, CA 95814. | Sacramento County, Department of Water Resources, 827 7th Street, Suite 301, Sacramento, CA 95814. | http://www.msc.fema.gov/lomc | Jan. 10, 2018 | 060262
San Benito | City of Hollister (17-09-1234P). | The Honorable Ignacio Velazquez, Mayor, City of Hollister, 375 5th Street, Hollister, CA 95023. | Planning Department, 420 Hill Street, Building A, Hollister, CA 95023. | http://www.msc.fema.gov/lomc | Jan. 8, 2018 | 060268
San Benito | Unincorporated Areas of San Benito County (17-09-1234P). | The Honorable Jaime De La Cruz, Chairman, Board of Supervisors, San Benito County, 481 4th Street, 1st Floor, Hollister, CA 95023. | San Benito County Department of Public Works, 3220 Southside Road, Hollister, CA 95023. | http://www.msc.fema.gov/lomc | Jan. 8, 2018 | 060267
San Luis Obispo | Unincorporated Areas of San Luis Obispo County (16-09-3181P). | The Honorable John Peschong, Chairman, Board of Supervisors, San Luis Obispo County, 1055 Monterey Street, Suite D430, San Luis Obispo, CA 93408. | San Luis Obispo County Public Works Department, 976 Osos Street, Room 207, San Luis Obispo, CA 93401. | http://www.msc.fema.gov/lomc | Jan. 11, 2018 | 060304
Santa Clara | City of San Jose (16-09-3074P). | The Honorable Sam Liccardo, Mayor, City of San Jose, 200 East Santa Clara Street, 18th Floor, San Jose, CA 95113. | Department of Public Works, 200 East Santa Clara Street, 5th Floor, San Jose, CA 95113. | http://www.msc.fema.gov/lomc | Jan. 5, 2018 | 060349
Florida: St. Johns | Unincorporated Areas of St. Johns County (17-04-4604P). | The Honorable James K. Johns, Chairman, St. Johns County Board of Commissioners, 500 San Sebastian View, St. Augustine, FL 32084. | St. Johns County Administration Building, 4020 Lewis Speedway, St. Augustine, FL 32084. | http://www.msc.fema.gov/lomc | Jan. 12, 2018 | 125147
Idaho:
Ada | City of Eagle (17-10-1535P). | The Honorable Stan Ridgeway, Mayor, City of Eagle, City Hall, 660 East Civic Lane, Eagle, ID 83616. | City Hall, 660 East Civic Street, Eagle, ID 83616. | http://www.msc.fema.gov/lomc | Jan. 16, 2018 | 160003
Ada | Unincorporated Areas of Ada County (17-10-1535P). | The Honorable David L. Case, Chairman, Ada County Board of Commissioners, 200 West Front Street, 3rd Floor, Boise, ID 83702. | Ada County Courthouse, 200 Front West Street, Boise, ID 83702. | http://www.msc.fema.gov/lomc | Jan. 16, 2018 | 160001
Kansas: Johnson | City of Overland Park (17-07-1247P). | The Honorable Carl Gerlach, Mayor, City of Overland Park, City Hall, 8500 Santa Fe Drive, Overland Park, KS 66212. | City Hall, 8500 Santa Fe Drive, Overland Park, KS 66212. | http://www.msc.fema.gov/lomc | Jan. 5, 2018 | 200174

[FR Doc. 2017-23230 Filed 10-25-17; 8:45 am]

BILLING CODE 9110-12-P